DEPARTMENT OF COMMERCE

Foreign-Trade Zones Board

[B-78-2017]

Foreign-Trade Zone (FTZ) 41—Milwaukee, Wisconsin; Notification of Proposed Production Activity; AFE, Inc. (Monitors/Displays/Televisions); Mount Pleasant, Wisconsin

The Port of Milwaukee, grantee of FTZ 41, submitted a notification of proposed production activity to the FTZ Board on behalf of AFE, Inc., located in Mount Pleasant, Wisconsin. The notification conforming to the requirements of the regulations of the FTZ Board (15 CFR 400.22) was received on November 30, 2017.

The applicant has submitted a separate application for subzone designation at AFE, Inc.'s facility under 15 CFR 400.38. The facility would be used to produce whiteboard monitors/interactive displays and televisions with and without tuners. Pursuant to 15 CFR 400.14(b), FTZ activity would be limited to the specific foreign-status materials and components and specific finished products described in the submitted notification (as described below) and subsequently authorized by the FTZ Board.

Production under FTZ procedures could exempt AFE, Inc., from customs duty payments on the foreign-status components used in export production. On its domestic sales, for the foreign-status materials/components noted below, the company would be able to choose the duty rates during customs entry procedures that apply to whiteboard monitors/interactive displays, tuner-free televisions, and televisions with tuners (duty rate ranges from duty-free to 3.9%). The company would be able to avoid duty on foreign-status components which become scrap/waste. Customs duties also could possibly be deferred or reduced on foreign-status production equipment.

The components and materials sourced from abroad include: Printed wire boards (PWBs) for monitors; PWBs for keyboards; infrared light detecting units for remote controllers; open cell liquid crystal displays (LCDs); monitor chassis components and assemblies of plastic and metal; stainless steel screws; reflector sheets; lens sheets; diffusion sheets; light emitting diode (LED) wires; PWBs for LEDs; plastic tapes; bezels; LCD modules; rear cover cable assemblies; power supply and drive units; power cables; LCD control cables; Wi-Fi cables; keyboard cables; speakers; A/C cords; remote controls; flexible flat cable for printed wire boards; AAA batteries; Wi-Fi units; plastic labels; TV stands and stand support brackets; plastic bags; printed setup guides; plastic cable clamps; molded paper packaging; paper packaging; cardboard cartons; plastic packaging; printed instructions; self-tapping screws; wire holders of plastic; plastic spacers; plastic insulator for coolers; keyboard cover assemblies; wooden pallets; PWBs for tuner TV keyboards; infrared light detecting units for tuner TV remote controllers; open cell LCDs for tuner TVs; monitor chassis components and assemblies of plastic and metal for tuner TVs; reflector sheets for tuner TVs; lens sheets for tuner TVs; diffusion sheets for tuner TVs; bezels for tuner TVs; LCD modules for tuner TVs; rear cover cable assemblies for tuner TVs; and, stands for tuner TVs (duty rate ranges from duty-free to 10.7%).

Public comment is invited from interested parties. Submissions shall be addressed to the Board's Executive Secretary at the address below. The closing period for their receipt is January 29, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: December 14, 2017.
Andrew McGilvray,
Executive Secretary.

[FR Doc. 2017-27406 Filed 12-19-17; 8:45 am]

BILLING CODE 3510-DS-P